NUCLEAR REGULATORY COMMISSION

Notice of Sunshine Act Meetings

Date: Week of April 9, 2007.

Place: Commissioners' Conference Room, 11555 Rockville Pike, Rockville, Maryland.

Status: Public and Closed.

Additional Matters to be Considered:

Week of April 9, 2007

Wednesday, April 11, 2007

10:15 a.m. Affirmation Session (Public Meeting).

a. Final Rule to Update 10

CFR Part 52, “Licenses, Certifications, and Approvals for Nuclear Power Plants” (RIN AG24).

b. Entergy Nuclear Vermont Yankee, LLC, and Entergy Nuclear Operations, Inc. (Vermont Yankee Nuclear Power Station) Docket No. 50-271-LR, LBP-06-20, 64 NRC 131, 175-82 (2006).

Week of April 16, 2007—Tentative

Tuesday, April 17, 2007

12:55 p.m. Affirmation Session (Public Meeting).

a. Final Rulemaking—10 CFR Part 26—Fitness-for-Duty Programs (Tentative).

b. Final Rulemaking on Limited Work Authorizations (Tentative).

* * * * *

* The schedule for Commission meetings is subject to change on short notice. To verify the status of meetings call (recording)—(301) 415-1292. Contact person for more information: Michelle Schroll, (301) 415-1662.

* * * * *

Additional Information

By a vote of 5-0 on April 10, 2007, the Commission determined pursuant to U.S.C. 552b(e) and § 9.107(a) of the Commission's rules that “Affirmation of Final Rule to Update 10 CFR Part 52, “Licenses, Certifications, and Approvals for Nuclear Power Plants (RIN AG24)” be held April 11, 2007, and on less than one week's notice to the public.

By a vote of 4-1 on April 10, 2007, the Commission determined pursuant to U.S.C. 552b(e) and § 9.107(a) of the Commission's rules that “Affirmation of Entergy Nuclear Vermont Yankee, LLC, and Entergy Nuclear Operations, Inc. (Vermont Yankee Nuclear Power Station) Docket No. 50-271-LR, LBP-06-20, 64 NRC 131, 175-82 (2006)” be held on April 11, 2007, and on less than one week's notice to the public. This item was previously scheduled for affirmation on Tuesday, April 17, 2007, at 12:55 p.m.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 10, 2007.
R. Michelle Schroll,
Office of the Secretary.

[FR Doc. 07-1886 Filed 4-12-07; 12:37 pm]

BILLING CODE 7590-01-P